DEPARTMENT OF HOMELAND SECURITY

Federal Emergency Management Agency

Agency Information Collection Activities: Submission for OMB Review; Comment Request

AGENCY: Federal Emergency Management Agency, DHS.

ACTION: Notice; 30-day notice and request for comments; Revision of a currently approved collection, OMB Number 1660-0020, No Forms.

SUMMARY: The Federal Emergency Management Agency (FEMA) has submitted the following information collection to the Office of Management and Budget (OMB) for review and clearance in accordance with the requirements of the Paperwork Reduction Act of 1995. The submission describes the nature of the information collection, the categories of respondents, the estimated burden (i.e., the time, effort and resources used by respondents to respond) and cost, and includes the actual data collection instruments FEMA will use.

Collection of Information

Title: Write Your Own (WYO) Program.

OMB Number: 1660-0020.

Abstract: Under the WYO Program, private sector insurance companies may offer flood insurance to eligible property owners. The Federal Government is grantor of flood insurance coverage for WYO Companies, issued under the WYO arrangements. In order to maintain adequate financial control over Federal funds, the NFIP requires the WYO Companies to submit a monthly financial report. The NFIP examines the data to insure that policyholder funds are accounted for and appropriately expended.

Affected Public: Business or other for-Profit.

Number of Respondents: 91. The total number of respondents of 97 previously reported in the 60-day Federal Register Notice at 73 FR 27545, May 13, 2008 has been decreased.

Estimated Time per Respondent: 35.4 minutes.

Estimated Total Annual Burden Hours: 644.28 hours. The total annual burden hours of 687 previously reported in the 60-day Federal Register Notice at 73 FR 27545, May 13, 2008 has been decreased.

Frequency of Response: 12.

Comments: Interested persons are invited to submit written comments on the proposed information collection to the Office of Information and Regulatory Affairs, Office of Management and Budget. Comments should be addressed to Desk Officer for the Department of Homeland Security, Federal Emergency Management Agency, and sent via electronic mail to oira.submission@omb.eop.gov or faxed to (202) 395-6974. Comments must be submitted on or before October 9, 2008.

FOR FURTHER INFORMATION CONTACT: Requests for additional information or copies of the information collection should be made to Director, Records Management Division, 500 C Street, SW., Washington, DC 20472, Mail Drop Room 301, 1800 S. Bell Street, Arlington, VA 22202, facsimile number (202) 646-3347, or e-mail address FEMA-Information-Collections@dhs.gov.

Dated: August 22, 2008.
John A. Sharetts-Sullivan,
Director, Records Management Division, Office of Management, Federal Emergency Management Agency, Department of Homeland Security.

[FR Doc. E8-20811 Filed 9-8-08; 8:45 am]

BILLING CODE 9110-11-P